DEPARTMENT OF DEFENSE

Office of the Secretary

Termination of Department of Defense Historical Advisory Committee

AGENCY: DoD.

ACTION: Termination of Federal Advisory Committee.

SUMMARY: Under the provisions of the Federal Advisory Committee Act of 1972 (5 U.S.C. Appendix), 41 CFR 102-3.55, and the Government in the Sunshine Act of 1976 (5 U.S.C. 552b), effective October 5, 2012 the Department of Defense gives notice that it is terminating the Department of Defense Historical Advisory Committee.

FOR FURTHER INFORMATION CONTACT: Jim Freeman, Advisory Committee Management Officer for the Department of Defense, 703-692-5952.

Dated: October 15, 2012.
Aaron Siegel,
Alternate OSD Federal Register Liaison Officer, Department of Defense.

[FR Doc. 2012-25671 Filed 10-18-12; 8:45 am]

BILLING CODE 5001-06-P